Title 3—

The President

Proclamation 8751 of November 3, 2011

Veterans Day, 2011

By the President of the United States of America

A Proclamation

Today, our Nation comes together to honor our veterans and commemorate the legacy of profound service and sacrifice they have upheld in pursuit of a more perfect Union. Through their steadfast defense of America’s ideals, our service members have ensured our country still stands strong, our founding principles still shine, and nations around the world know the blessings of freedom. As we offer our sincere appreciation and respect to our veterans, to their families, to those who are still in harm’s way, and to those we have laid to rest, let us rededicate ourselves to serving them as well as they have served the United States of America.

Our men and women in uniform are bearers of a proud military tradition that has been dutifully passed forward—from generation to generation—for more than two centuries. In times of war and peace alike, our veterans have served with courage and distinction in the face of tremendous adversity, demonstrating an unfaltering commitment to America and our people. Many have made the ultimate sacrifice to preserve the country they loved. The selflessness of our service members is unmatched, and they remind us that there are few things more fundamentally American than doing our utmost to make a difference in the lives of others.

Just as our veterans stood watch on freedom’s frontier, so have they safeguarded the prosperity of our Nation in our neighborhoods, our businesses, and our homes. As teachers and engineers, doctors and parents, these patriots have made contributions to civilian life that serve as a testament to their dedication to the welfare of our country. We owe them a debt of honor, and it is our moral obligation to ensure they receive our support for as long as they live as proud veterans of the United States Armed Forces. This year, as our troops in Iraq complete their mission, we will honor them and all who serve by working tirelessly to give them the care, the benefits, and the opportunities they have earned.

On Veterans Day, we pay tribute to our veterans, to the fallen, and to their families. To honor their contributions to our Nation, let us strive with renewed determination to keep the promises we have made to all who have answered our country’s call. As we fulfill our obligations to them, we keep faith with the patriots who have risked their lives to preserve our Union, and with the ideals of service and sacrifice upon which our Republic was founded.

With respect for and in recognition of the contributions our service members have made to the cause of peace and freedom around the world, the Congress has provided (5 U.S.C. 6103(a)) that November 11 of each year shall be set aside as a legal public holiday to honor our Nation’s veterans.

NOW, THEREFORE, I, BARACK OBAMA, President of the United States of America, do hereby proclaim November 11, 2011, as Veterans Day. I encourage all Americans to recognize the valor and sacrifice of our veterans through appropriate public ceremonies and private prayers. I call upon Federal, State, and local officials to display the flag of the United States and to participate in patriotic activities in their communities. I call on all Americans, including civic and fraternal organizations, places of worship, schools, and communities to support this day with commemorative expressions and programs.

IN WITNESS WHEREOF, I have hereunto set my hand this third day of November, in the year of our Lord two thousand eleven, and of the Independence of the United States of America the two hundred and thirty-sixth.

[FR Doc. 2011-28997

Filed 11-4-11; 11:15 am]

Billing code 3295-F2-P